INTERNATIONAL TRADE COMMISSION

[Investigation No. TA-421-7]

Certain Passenger Vehicle and Light Truck Tires From the People's Republic of China; Determination

On the basis of information developed in the subject investigation, the United States International Trade Commission (Commission) determines, pursuant to section 421(b)(1) of the Trade Act of 1974,¹ that certain passenger vehicle and light truck tires ² from the People's Republic of China are being imported into the United States in such increased quantities or under such conditions as to cause or threaten to cause market disruption to the domestic producers of like or directly competitive products.³

¹ 19 U.S.C. 2451(b)(1).

² For purposes of this investigation, certain passenger vehicle and light truck tires are defined as new pneumatic tires, of rubber, from China, of a kind used on motor cars (except racing cars) and on-the-highway light trucks, vans, and sport utility vehicles, provided for in subheadings 4011.10.10, 4011.10.50, 4011.20.10, and 4011.20.50 of the Harmonized Tariff Schedule of the United States (“HTS”). The HTS subheadings are provided for convenience and customs purposes; the written description of the product under investigation is dispositive.

³ Vice Chairman Daniel R. Pearson and Commissioner Deanna Tanner Okun made a negative determination.

Background

The Commission instituted this investigation following receipt, on April 20, 2009, of a petition filed by the United Steel, Paper and Forestry, Rubber, Manufacturing, Energy, Allied Industrial and Service Workers International Union. Notice of the institution of the Commission's investigation and of the scheduling of a public hearing to be held in connection therewith was given by posting a copy of the notice on the Commission's Web site (http://www.usitc.gov) and by publishing the notice in the Federal Register of April 29, 2009 (74 FR 19593). The hearing was held on June 2, 2009 in Washington, DC; all persons who requested the opportunity were permitted to appear in person or by counsel.

By order of the Commission.
Issued: June 19, 2009.
Marilyn R. Abbott,
Secretary to the Commission.

[FR Doc. E9-14943 Filed 6-24-09; 8:45 am]

BILLING CODE 7020-02-P